DEPARTMENT OF HOMELAND SECURITY

Federal Emergency Management Agency

44 CFR Part 65

[Docket ID FEMA-2011-0002; Internal Agency Docket No. FEMA-B-1209]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

The tables published under the authority of § 65.4 are amended as follows:

State and county | Location and case No. | Date and name of newspaper where notice was published | Chief executive officer of community | Effective date of modification | Community No.
Connecticut: Hartford | City of Hartford (10-01-1797P) | February 16, 2011; February 23, 2011; The Hartford Courant | The Honorable Pedro E. Segarra, Mayor, City of Hartford, 550 Main Street, 2nd Floor, Room 200, Hartford, CT 06103 | June 23, 2011 | 095080
Illinois:
Adams | City of Quincy, (11-05-0757P) | February 7, 2011; February 14, 2011; The Quincy Herald-Whig | The Honorable John A. Spring, Mayor, City of Quincy, City Hall, 730 Maine Street, Quincy, IL 62301 | June 15, 2011 | 170003
Adams | Unincorporated areas of Adams County, (11-05-0757P) | February 7, 2011; February 14, 2011; The Quincy Herald-Whig | The Honorable Mike Mclaughlin, Chairman, Adams County Board, Adams County Courthouse, 507 Vermont Street, Quincy, IL 62301 | June 15, 2011 | 170001
Kansas: Rice | City of Sterling, (11-07-0838P) | April 14, 2011; April 21, 2011; The Sterling Kansas Bulletin | The Honorable Todd Rowland, Mayor, City of Sterling, 114 North Broadway, P.O. Box 287, Sterling, KS 67579 | August 19, 2011 | 200297
Massachusetts: Essex | City of Salem, (10-01-0551P) | February 10, 2011; February 17, 2011; The Salem Evening News | The Honorable Kimberley Driscoll, Mayor, City of Salem, City Hall, 93 Washington Street, Salem, MA 01970 | January 26, 2011 | 250102
Missouri:
Greene | City of Springfield, (10-07-2268P) | April 7, 2011; April 14, 2011; The Springfield News-Leader | The Honorable James O'Neal, Mayor, City of Springfield, P.O. Box 8368, 840 Boonville Avenue, Springfield, MO 65801 | August 12, 2011 | 290149
Cass | City of Harrisonville, (10-07-2115P) | April 15, 2011; April 22, 2011; The Cass County Democrat, Missourian | The Honorable Kevin Wood, Mayor, City of Harrisonville, 300 East Pearl Street, P.O. Box 367, Harrisonville, MO 64701 | August 22, 2011 | 290068
Nebraska: Lancaster | City of Lincoln, (11-07-1426P) | April 14, 2011; April 21, 2011; The Lincoln Journal Star | The Honorable Chris Beutler, Mayor, City of Lincoln, 555 South 10th Street, Suite 301, Lincoln, NE 68508 | March 30, 2011 | 315273
North Carolina:
Union | Unincorporated areas of Union County, (11-04-1541P) | June 2, 2011; June 9, 2011; The Charlotte Observer and, The Enquirer-Journal | Ms. Cynthia Coto, Union County Manager, Union County Government Center, 500 North Main Street, Room 918, Monroe, NC 28112 | October 7, 2011 | 370234
Union | Village of Marvin, (11-04-1541P) | June 2, 2011; June 9, 2011; The Charlotte Observer and, The Enquirer-Journal | The Honorable Nick Dispenziere, Mayor, Village of Marvin, 10004 New Town Road, Marvin, NC 28173 | October 7, 2011 | 370514
Ohio:
Franklin | Unincorporated areas of Franklin County, (11-05-3271P) | May 16, 2011; May 23, 2011; The Daily Reporter | Ms. Marilyn Brown, President, Franklin County, 373 South High Street, 26th Floor, Columbus, OH 43215 | May 2, 2011 | 390167
Franklin | City of Columbus, (11-05-3271P) | May 16, 2011; May 23, 2011; The Daily Reporter | The Honorable Michael B. Coleman, Mayor, City of Columbus, 90 West Board Street, City Hall, 2nd Floor, Columbus, OH 43215 | May 2, 2011 | 390170
Montgomery | City of Kettering, (10-05-4843P) | February 10, 2011; February 17, 2011; The Dayton Daily News | The Honorable Don Patterson, Mayor, City of Kettering, 3600 Shroyer Road, Kettering, OH 45429 | June 17, 2011 | 390412
Butler | City of Monroe, (11-05-2538P) | March 10, 2011; March 17, 2011; The Middletown Journal | The Honorable Robert E. Routson, Mayor, City of Monroe, 233 South Main Street, P.O. Box 330, Monroe, OH 45050 | March 1, 2011 | 390042
Warren | Unincorporated areas of Warren County, (11-05-2538P) | March 10, 2011; March 17, 2011; The Middletown Journal | Mr. David G. Young, Warren County Commissioner, 406 Justice Drive, 1st Floor, Lebanon, OH 45036 | March 1, 2011 | 390757
Washington:
Pierce | City of Sumner, (10-10-0620P) | April 11, 2011; April 18, 2011; The News Tribune | The Honorable Dave Enslow, Mayor, City of Sumner, City Hall, 1104 Maple Street, Sumner, WA 98390 | August 16, 2011 | 530147
King | Unincorporated areas of King County, (10-10-0977P) | May 5, 2011; May 12, 2011; The Seattle Times | Mr. Dow Constantine, King County Executive, 401 5th Avenue, Suite 800, Seattle, WA 98104 | April 25, 2011 | 530071
King | City of Burien, (10-10-0977P) | May 5, 2011; May 12, 2011; The Seattle Times | The Honorable Joan McGilton, Mayor, City of Burien, 400 Southwest 152nd Street, Suite 300, Burien, WA 98166 | April 25, 2011 | 530321
Wisconsin:
Dane | Unincorporated areas of Dane County, (10-05-5471P) | March 3, 2011; March 10, 2011; The News-Sickle-Arrow | Ms. Kathleen Falk, Dane County Executive, County Building, Room 421, 210 Martin Luther King Jr. Boulevard, Madison, WI 53703 | July 8, 2011 | 550077
Dane | Village of Cross Plains, (10-05-5471P) | March 3, 2011; March 10, 2011; The News-Sickle-Arrow | Mr. Mike Schutz, President, Village of Cross Plains, 2417 Brewery Road, Cross Plains, WI 53528 | July 8, 2011 | 550081
Brown | Village of Pulaski, (10-05-6098P) | February 24, 2011; March 3, 2011; The Greenbay Press Gazette | Mr. Keith Chambers, President, Village of Pulaski, 421 South Saint Augustine Street, Pulaski, WI 54162 | July 5, 2011 | 550024
Brown | Unincorporated areas of Brown County, (10-05-6098P) | February 24, 2011; March 3, 2011; The Greenbay Press Gazette | The Honorable Guy Zima, Chairman, Brown County Board, 305 East Walnut Street, Green Bay, WI 54301 | July 5, 2011 | 550020
Fond du Lac | Unincorporated areas of Fond du Lac County, (10-05-4703P) | May 16, 2011; May 23, 2011; The Reporter | Mr. Allen J. Buechel, Fond du Lac County Executive, 160 South Macy Street, Fond du Lac, WI 54935 | September 20, 2011 | 550131
Fond du Lac | Village of Rosendale, (10-05-4703P) | May 16, 2011; May 23, 2011; The Reporter | Mr. James Westphal, President, Village of Rosendale, 221 North Grant Street, Rosendale, WI 54974 | September 20, 2011 | 550141
Sauk | Village of Lake Delton, (10-05-6994P) | March 30, 2011; April 6, 2011; The Wisconsin Dells Event | Mr. John Webb, President, Village of Lake Delton, 50 Wisconsin Dells Parkway South, P.O. Box 87, Lake Delton, WI 53940 | August 4, 2011 | 550394
Milwaukee | City of Greenfield, (11-05-1089P) | April 14, 2011; April 21, 2011; The Greenfield Now | The Honorable Michael J. Neitzke, Mayor, City of Greenfield, 7325 West Forest Home Avenue, Greenfield, WI 53220 | March 31, 2011 | 550277

(Catalog of Federal Domestic Assistance No. 97.022, “Flood Insurance.”)

Dated: July 29, 2011.
Sandra K. Knight,
Deputy Federal Insurance and Mitigation Administrator, Mitigation, Department of Homeland Security, Federal Emergency Management Agency.

[FR Doc. 2011-20396 Filed 8-10-11; 8:45 am]

BILLING CODE 9110-12-P